DEPARTMENT OF HEALTH AND HUMAN SERVICES

National Institutes of Health

National Institute on Deafness and Other Communication Disorders; Amended Notice of Meeting

Notice is hereby given of a change in the meeting of the Board of Scientific Counselors, NIDCD, March 30, 2020, 8:15 a.m. to March 31, 2020, 4:15 p.m., PORTER NEUROSCIENCE RESEARCH CENTER, Building 35A, 35 Convent Drive, Bethesda, MD 20892 which was published in the Federal Register on March 4, 2020, 85 FR 12796.

This notice is being amended to change the meeting location from Bldg. 35A to a virtual meeting. The URL link to this meeting is: https://nih.webex.com/nih/j.php?MTID=mf89176f712a4e0c93a5c0bb2ea70d9ad. Any member of the public may submit written comments no later than 15 days after meeting. The meeting is partially Closed to the public.

Dated: March 30, 2020.
Miguelina Perez,
Program Analyst, Office of Federal Advisory Committee Policy.

[FR Doc. 2020-06942 Filed 4-2-20; 8:45 am]

BILLING CODE 4140-01-P